NUCLEAR REGULATORY COMMISSION

[NRC-2025-0035]

Availability of Revised NRC Form 3, “Notice to Employees”

AGENCY: Nuclear Regulatory Commission.

ACTION: Generic communications; issuance.

SUMMARY: The U.S. Nuclear Regulatory Commission (NRC) is announcing the availability of the latest version of NRC Form 3, “Notice to Employees.” The NRC Form 3 describes certain responsibilities and rights of employers and employees who engage in NRC-regulated activities, including how employees can report violations or other safety concerns directly to the NRC. Licensees are required by law to post the form at prominent locations at the workplace to permit workers to view it easily.

DATES: The revised form is available immediately.

ADDRESSES: Please refer to Docket ID NRC-2025-0035 when contacting the NRC about the availability of information regarding this document. You may obtain publicly available information related to this document using any of the following methods:

• Federal Rulemaking Website: Go to https://www.regulations.gov and search for Docket ID NRC-2025-0035. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. NRC Form 3, “Notice to Employees,” and Form 3A, a Spanish version of the same form, are available in ADAMS under Accession Numbers ML13083A002 and ML17292A077, respectively.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Sandra Mendez, Office of Enforcement, U.S. Nuclear Regulatory Commission, Washington, DC 20555-0001; telephone: 301-287-9426; email: Sandra.Mendez-Gonzalez@nrc.gov.

SUPPLEMENTARY INFORMATION: Paragraph 19.11(e)(1) of title 10 of the Code of Federal Regulations (10 CFR), states that licensees shall prominently post the most recent version of NRC Form 3, “Notice to Employees” within 30 days of receiving the revised NRC Form 3 from the Commission. In a 1997 rulemaking, 10 CFR 19.11 was amended to incorporate a reference to the latest version of NRC Form 3. This eliminated the need to revise the CFR whenever NRC Form 3 is changed, which had been the previous practice. The final rule published on September 15, 1997 (62 FR 48165) indicated that the NRC would inform licensees of future changes to NRC Form 3 by an administrative letter, and, in addition, the availability of any new versions would be noticed in the Federal Register. Administrative letters were a type of generic communication issued to inform addressees of specific regulatory or administrative information but were discontinued in September 1999. As such, in lieu of an administrative letter, this revision and future revisions will be publicized through an alternative electronic means (e.g., website notice, social networking service, etc.) to alert all licensees of the new revisions, as well as in the Federal Register.

A new version of NRC Form 3 was issued in September 2024, to make a correction to Region III's mailing address. To view the current version of NRC Form 3 (09/2024), please go to https://www.nrc.gov/reading-rm/doc-collections/forms/index.html. A Spanish language version of the form (NRC Form 3A) can also be found on the same site.

Dated: April 4, 2025.
For the Nuclear Regulatory Commission.
David Pelton,
Director, Office of Enforcement.

[FR Doc. 2025-06101 Filed 4-8-25; 8:45 am]

BILLING CODE 7590-01-P